DEPARTMENT OF COMMERCE

International Trade Administration

[A-583-830]

Stainless Steel Plate in Coils From Taiwan: Final Rescission of Antidumping Duty Administrative Review

AGENCY: Import Administration, International Trade Administration, Department of Commerce.

ACTION: Notice of the Final Rescission of Antidumping Duty Administrative Review of Stainless Steel Plate in Coils from Taiwan.

SUMMARY: On December 16, 2003, the Department of Commerce (“the Department”) published in the Federal Register the preliminary rescission of its administrative review of the antidumping duty order on stainless steel plate in coils from Taiwan. See Notice of the Preliminary Rescission of Antidumping Duty Administrative Review of Stainless Steel Plate in Coils from Taiwan, 68 FR 69998 (December 16, 2003) (“Preliminary Recession”). This review covers two manufacturers of the subject merchandise, Yieh United Steel Corporation (“YUSCO”), a Taiwanese producer of subject merchandise, and Ta Chen Stainless Pipe Co., Ltd. (“Ta Chen”), also a Taiwanese producer of subject merchandise. The period of review (“POR”) is May 1, 2002 through April 30, 2003.

We preliminarily rescinded this review based on record evidence supporting the conclusion that there were no entries into the United States of subject merchandise during the POR by respondents. See Preliminary Rescission. We are now issuing our final rescission of this review based on evidence on the record indicating that there were no entries into the United States of subject merchandise during the POR from the respondents.

EFFECTIVE DATE: April 19, 2004.

FOR FURTHER INFORMATION CONTACT: Catherine Bertrand or Lilit Astvatsatrian, Import Administration, International Trade Administration, U.S. Department of Commerce, 14th Street and Constitution Avenue, NW., Washington, DC 20230; telephone: (202) 482-3207 or (202) 482-6412, respectively.

Background

On May 21, 1999, the Department of Commerce (“Department”) published the antidumping duty order on stainless steel plate in coils from Taiwan. See Antidumping Duty Orders; Certain Stainless Steel Plate in Coils From Belgium, Canada, Italy, the Republic of Korea, South Africa, and Taiwan, 64 FR 27756 (May 21, 1999). On May 1, 2003, the Department published a notice of opportunity to request an administrative review of this order for the period May 1, 2002 through April 30, 2003. See Notice of Opportunity to Request Administrative Review of Antidumping or Countervailing Duty Order, Finding, or Suspended Investigation, 68 FR 23281 (May 1, 2003). On May 30, 2003, petitioners ¹ timely requested the Department to conduct an administrative review of sales by YUSCO and Ta Chen, producers and exporters of subject merchandise in Taiwan. On July 1, 2003, in accordance with section 751(a) of the Tariff Act of 1930 as amended (“the Act”), the Department published in the Federal Register a notice of initiation of this antidumping duty administrative review of sales by YUSCO and Ta Chen for the period May 1, 2002 through April 30, 2003. See Initiation of Antidumping and Countervailing Duty Administrative Reviews and Request for Revocation in Part, 68 FR 39055 (July 1, 2003).

On July 3, 2003, the Department issued its antidumping duty questionnaire to YUSCO and Ta Chen. On August 19, 2003, Ta Chen certified that it did not have any U.S. sales or exports of subject merchandise during the POR, and requested to be excluded from the review. On August 20, 2003, YUSCO certified that it did not have any U.S. sales, shipments or entries of subject merchandise during the POR. On August 21, 2003, petitioners alleged that Ta Chen and YUSCO are affiliated with other companies that may have shipped subject merchandise to the United States during the POR and requested the Department to instruct Ta Chen and YUSCO to submit a completed Section A questionnaire response. On September 8, 2003, we sent an inquiry to U.S. Customs and Border Protection (“CBP”) to confirm that YUSCO and Ta Chen had no shipments of subject merchandise into the United States during the POR. CBP did not indicate that there were any entries of subject merchandise by Ta Chen or YUSCO during the POR.

On March 11, 2003, the Department amended the scope of the antidumping duty orders to remove the original language from the scope which excluded cold-rolled stainless steel plate in coils, in accordance with the Court of International Trade's (“CIT”) decision in Allegheny Ludlum Corp. v. United States, 287 F.3d 1365 (Fed. Cir. 2000). See Notice of Amended Antidumping Duty Orders: Certain Stainless Steel Plate in Coils from Belgium, Canada, Italy, the Republic of Korea, South Africa, and Taiwan, 68 FR 11520, (March 11, 2003) (“Scope of the Review”). Therefore, the new scope was effective March 11, 2003. See Scope of the Review below.

On December 16, 2003, the Department preliminary rescinded the administrative review with respect to Ta Chen and YUSCO based on record evidence and the CBP inquiry, both of which it determined supported the conclusion that there were no entries of subject merchandise during the POR. See Preliminary Rescission. On January 15, 2004, petitioners filed a case brief. Neither respondent filed a case brief nor rebuttal brief in this review. In addition, neither petitioners nor respondents requested a hearing in the instant review.

Scope of the Review

Effective: May 1, 2002 Through March 10, 2003

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this petition are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to this review is currently classifiable in the Harmonized Tariff Schedule of the United States (HTS) at subheadings: 7219110030, 7219110060, 7219120005, 7219120020, 7219120025, 7219120050, 7219120055, 7219120065, 7219120070, 7219120080, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and CBP purposes, the written description of the merchandise under investigation is dispositive.

Effective March 11, 2003, and in accordance with the CIT's December 12, 2002 opinion in Allegheny Ludhum Corp. v. United States, the scope of the order is as stated below:

Effective: March 11, 2003 Through April 30, 2003

The product covered by these orders is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars.

The merchandise subject to this review is currently classifiable in the Harmonized Tariff Schedule of the United States (HTS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and CBP purposes, the written description of the merchandise subject to these orders is dispositive.

Period of Review

The POR is May 1, 2002 through April 30, 2003.

Analysis of Comments Received

All issues raised in the case brief and rebuttal brief by parties to this administrative review are addressed in the “Issues and Decision Memorandum” (“Decision Memorandum”) from Joseph A. Spetrini, Deputy Assistant Secretary, Import Administration, Group III, to James J. Jochum, Assistant Secretary for Import Administration, dated April 13, 2004, which is hereby adopted by this notice. Petitioners argue that the Department should, at minimum, obtain section A questionnaire responses from respondents which would inform the Department of their affiliated parties, definition of subject merchandise and otherwise create a substantiated record. We have determined to rescind this administrative review because the Department's interpretation of its statute and regulations, as affirmed by the Court of Appeals for the Federal Circuit, does not support conducting an administrative review when the evidence on the record indicates that respondents had no entries of subject merchandise during the POR. Pursuant to 19 CFR 351.213(d)(3), the Department may rescind an administrative review, in whole or with respect to a particular exporter or producer, if the Secretary concludes that, during the period covered by the review, there were no entries, exports, or sales of the subject merchandise. Furthermore, to the extent that petitioners believe affiliated parties should be reviewed, section 19 CFR 351.213(b)(1) specifically states that requests for administrative reviews from the domestic parties must specify the name of the individual exporter or producer covered by an antidumping duty order. As the Court of Appeals for the Federal Circuit affirmed in Floral Trade Council v. United States, 888 F. 2d 1366, 1369 (Fed. Cir. 1989), petitioners have the minimum burden of naming and selecting the proper party to be reviewed. Petitioners did not request a review of these specific, named “affiliates” in this case.

A complete list of the issues which petitioners have raised and to which we have responded, are in the Decision Memorandum which is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/frn/summary/list.htm. The paper copy and electronic version of the Decision Memorandum are identical in content.

Final Rescission of Review

Pursuant to 19 CFR 351.213(d)(3), the Department may rescind an administrative review, in whole or only with respect to a particular exporter or producer, if the Secretary concludes that, during the period covered by the review, there were no entries, exports, or sales of the subject merchandise, as the case may be. In this case the Department is satisfied, after a review of information on the record, that there were no entries of stainless steel plate in coils produced and exported from Ta Chen or YUSCO during the POR. Therefore, we are rescinding this review with respect to Ta Chen and YUSCO in accordance with 19 CFR 351.213(d)(3). The cash deposit rate for YUSCO will remain at 8.02 percent, for Ta Chen the cash deposit rate will remain at 10.20 percent, and for “all other” producers/exporters of the subject merchandise the cash deposit rate will remain at 7.39 percent, the rates established in the most recently completed segment of this proceeding. See Notice of Final Results and Rescission in Part of Antidumping Duty Administrative Review: Stainless Steel Plate in Coils From Taiwan, 67 FR 40914 (June 14, 2002). These deposit requirements shall remain in effect until publication of the final results of the next administrative review

Changes Since the Preliminary Rescission

We have made no changes since the Preliminary Rescission of this review.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This issuing and publishing this determination in accordance with sections 751(a)(1) and 777(i)(1) of the Act, and 19 CFR 351.213(d)(4).

Dated: April 13, 2004.
Jeffrey A. May,
Acting Assistant Secretary for Import Administration.

Appendix I—List of Issues for Discussion

A. Issues with Respect to Ta Chen and YUSCO

Comment 1: Section A Questionnaire from Ta Chen and YUSCO

Comment 2: Review of the Affiliated Parties

[FR Doc. 04-8802 Filed 4-16-04; 8:45 am]

BILLING CODE 3510-DS-P